NUCLEAR REGULATORY COMMISSION

[Docket No. 40-9091-MLA; ASLBP No. 12-915-01-MLA-BD01]

Strata Energy, Inc.; Establishment of Atomic Safety and Licensing Board

Pursuant to delegation by the Commission dated December 29, 1972, published in the Federal Register, 37 FR 28,710 (1972), and the Commission's regulations, see 10 CFR 2.104, 2.105, 2.300, 2.309, 2.313, 2.318, and 2.321, notice is hereby given that an Atomic Safety and Licensing Board (Board) is being established to preside over the following proceeding:

Strata Energy, Inc. (Ross In Situ Recovery Uranium Project)

This proceeding involves a license application from Peninsula Minerals, Ltd., doing business as Strata Energy, Inc., requesting a new source and byproduct materials license at its Ross In Situ Recovery Uranium Project site located in Crook County, Wyoming. In response to a Notice of Materials License Application, Opportunity to Request a Hearing and to Petition for Leave to Intervene, and Commission Order Imposing Procedures for document Access to Sensitive Unclassified Non-Safeguards Information published in the Federal Register on July 13, 2011 (76 FR 41,308), a petition to intervene was submitted by the Natural Resources Defense Council (NRDC) and Powder River Basin Resource Council (PRBRC) from Geoffrey Fettus of NRDC and Shannon Anderson of PRBRC.

The Board is comprised of the following administrative judges:

G. Paul Bollwerk, III, Chair, Atomic Safety and Licensing Board Panel, U.S. Nuclear Regulatory Commission, Washington, DC 20555-0001.

Dr. Richard F. Cole, Atomic Safety and Licensing Board Panel, U.S. Nuclear Regulatory Commission, Washington, DC 20555-0001.

Dr. Kenneth L. Mossman, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 2nd day of November 2011.
E. Roy Hawkens,
Chief Administrative Judge, Atomic Safety and Licensing Board Panel.

[FR Doc. 2011-28884 Filed 11-7-11; 8:45 am]

BILLING CODE 7590-01-P